SURFACE TRANSPORTATION BOARD

30-Day Notice of Intent To Seek Extension of Approval of Collections: Rail Carrier Financial Reports

AGENCY: Surface Transportation Board.

ACTION: Notice and request for comments.

SUMMARY: As part of its continuing effort to reduce paperwork burdens, and as required by the Paperwork Reduction Act of 1995 (PRA), the Surface Transportation Board (Board) gives notice of its intent to request from the Office of Management and Budget (OMB) approval without change of the six existing collections described below. The Board previously published a notice about this collection in the Federal Register (July 11, 2018). That notice allowed for a 60-day public review and comment period. No comments were received.

DATES: Comments on these information collections should be submitted by October 29, 2018.

ADDRESSES: Written comments should be identified as “Paperwork Reduction Act Comments, Surface Transportation Board: Rail Carrier Financial Reports.” These comments should be directed to the Office of Management and Budget, Office of Information and Regulatory Affairs, Attention: Michael McManus, Surface Transportation Board Desk Officer: By email at oira_submission@omb.eop.gov; by fax at (202) 395-1743; or by mail to Room 10235, 725 17th Street NW, Washington, DC 20503. Please also direct comments to Chris Oehrle, PRA Officer, Surface Transportation Board, 395 E Street SW, Washington, DC 20423-0001, or to pra@stb.gov.

FOR FURTHER INFORMATION CONTACT: For further information regarding these collections, contact Pedro Ramirez at (202) 245-0333 or pedro.ramirez@stb.gov. Assistance for the hearing impaired is available through the Federal Information Relay Service (FIRS) at 1-800-877-8339.

SUPPLEMENTARY INFORMATION: Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and/or summarized in the Board's request for OMB approval.

Subjects: In this notice, the Board is requesting comments on the following information collections:

Description of Collection 1

Title: Quarterly Report of Revenues, Expenses, and Income—Railroads (Form RE&I).

OMB Control Number: 2140-0013.

Form Number: Form RE&I.

Type of Review: Extension without change.

Respondents: Class I railroads.

Number of Respondents: Seven.

Estimated Time per Response: Six hours.

Frequency of Response: Quarterly.

Total Annual Hour Burden: 168 hours annually.

Total Annual “Non-Hour Burden” Cost: None identified. Filings are submitted electronically to the Board.

Needs and Uses: This collection is a report of railroad operating revenues, operating expenses and income items. It is also a profit and loss statement, disclosing net railway operating income on a quarterly and year-to-date basis for current and prior years. See 49 CFR 1243.1. The Board uses the information in this report to ensure competitive, efficient, and safe transportation through general oversight programs that monitor and forecast the financial and operating condition of railroads, and through regulation of railroad rate and service issues and rail restructuring proposals, including railroad mergers, consolidations, acquisitions of control, and abandonments. Information from these reports is used by the Board, other federal agencies, and industry groups to monitor and assess industry growth and operations, detect changes in carrier financial stability, and identify trends that may affect the national transportation system. Some of the information from these reports is compiled by the Board in our quarterly Selected Earnings Data Report, which is published on the Board's website, https://www.stb.gov/stb/industry/econ_reports.html. The information contained in these reports is not available from any other source.

Description of Collection 2

Title: Quarterly Condensed Balance Sheet—Railroads (Form CBS).

OMB Control Number: 2140-0014.

Form Number: Form CBS.

Type of Review: Extension without change.

Respondents: Class I railroads.

Number of Respondents: Seven.

Estimated Time per Response: Six hours.

Frequency of Response: Quarterly.

Total Annual Hour Burden: 168 hours annually.

Total Annual “Non-Hour Burden” Cost: None identified. Filings are submitted electronically to the Board.

Needs and Uses: This collection shows the balance, quarterly and cumulative, for the current and prior year of the carrier's assets and liabilities, gross capital expenditures, and revenue tons carried. See 49 CFR 1243.2. The Board uses the information in this report to ensure competitive, efficient, and safe transportation through general oversight programs that monitor and forecast the financial and operating condition of railroads, and through specific regulation of railroad rate and service issues and rail restructuring proposals, including railroad mergers, consolidations, acquisitions of control, and abandonments. Information from these reports is used by the Board, other federal agencies, and industry groups to assess industry growth and operations, detect changes in carrier financial stability, and identify trends that may affect the national transportation system. Revenue ton-miles, which are reported in these reports, are compiled and published by the Board in its quarterly Selected Earnings Data Report, which is published on the Board's website, https://www.stb.gov/stb/industry/econ_reports.html. The information contained in these reports is not available from any other source.

Description of Collection 3

Title: Report of Railroad Employees, Service and Compensation (Wage Forms A and B).

OMB Control Number: 2140-0004.

Form Number: Wage Form A; and Wage Form B.

Type of Review: Extension without change.

Respondents: Class I railroads.

Number of Respondents: Seven.

Estimated Time per Response: No more than 3 hours per quarterly report and 4 hours per annual summation.

Frequency of Response: Quarterly, with an annual summation.

Total Annual Hour Burden: No more than 112 hours annually.

Total Annual “Non-Hour Burden” Cost: None identified. Filings are submitted electronically to the Board.

Needs and Uses: This collection shows the number of employees, service hours, and compensation, by employee group (e.g., executive, professional, maintenance-of-way and equipment, and transportation), of the reporting railroads. See 49 CFR pt. 1245. The information is used by the Board to forecast labor costs and measure the efficiency of the reporting railroads. The information is also used by the Board to evaluate proposed regulated transactions that may impact rail employees, including mergers and consolidations, acquisitions of control, purchases, and abandonments. Other federal agencies and industry groups, including the Railroad Retirement Board (RRB), Bureau of Labor Statistics (BLS), and Association of American Railroads (AAR), use the information contained in the reports to monitor railroad operations. Certain information from these reports is compiled and published on the Board's website, https://www.stb.gov/stb/industry/econ_reports.html. The information contained in these reports is not available from any other source.

Description of Collection 4

Title: Monthly Report of Number of Employees of Class I Railroads (Wage Form C).

OMB Control Number: 2140-0007.

Form Number: STB Form C.

Type of Review: Extension without change.

Respondents: Class I railroads.

Number of Respondents: Seven.

Estimated Time per Response: 1.25 hours.

Frequency of Response: Monthly.

Total Annual Hour Burden: 105 hours annually.

Total Annual “Non-Hour Burden” Cost: None identified. Filings are submitted electronically to the Board.

Needs and Uses: This collection shows, for each reporting carrier, the average number of employees at mid-month in the six job-classification groups that encompass all railroad employees. See 49 CFR pt. 1246. The information is used by the Board to forecast labor costs and measure the efficiency of the reporting railroads. The information is also used by the Board to evaluate the impact on rail employees of proposed regulated transactions, including mergers and consolidations, acquisitions of control, purchases, and abandonments. Other federal agencies and industry groups, including the RRB, BLS, and AAR, use the information contained in these reports to monitor railroad operations. Certain information from these reports is compiled and published on the Board's website, https://www.stb.gov/stb/industry/econ_reports.html. The information contained in these reports is not available from any other source.

Description of Collection 5

Title: Annual Report of Cars Loaded and Cars Terminated.

OMB Control Number: 2140-0011.

Form Number: Form STB-54.

Type of Review: Extension with change.

Respondents: Class I railroads.

Number of Respondents: Seven.

Estimated Time per Response: Four hours.

Frequency of Response: Annual.

Total Annual Hour Burden: 28 hours annually.

Total Annual “Non-Hour Burden” Cost: None identified. Filings are submitted electronically to the Board.

Needs and Uses: This collection reports the number of cars loaded and cars terminated on the reporting carrier's line. See 49 CFR pt. 1247. Information in this report is entered into the Board's Uniform Rail Costing System (URCS), which is a cost measurement methodology. URCS, which was developed by the Board pursuant to 49 U.S.C. 11161, is used as a tool in rail rate proceedings, in accordance with 49 U.S.C. 10707(d), to calculate the variable costs associated with providing a particular service. The Board also uses URCS to carry out more effectively other of its regulatory responsibilities, including: Acting on railroad requests for authority to engage in Board-regulated financial transactions such as mergers, acquisitions of control, and consolidations, see 49 U.S.C. 11323-11324; analyzing the information that the Board obtains through the annual railroad industry waybill sample, see 49 CFR pt. 1244; measuring off-branch costs in railroad abandonment proceedings, in accordance with 49 CFR 1152.32(n); developing the “rail cost adjustment factors,” in accordance with 49 U.S.C. 10708; and conducting investigations and rulemakings. This collection is compiled and published on the Board's website, https://www.stb.gov/stb/industry/econ_reports.html. There is no other source for the information contained in this report.

Description of Collection 6

Title: Quarterly Report of Freight Commodity Statistics (Form QCS).

OMB Control Number: 2140-0001.

Form Number: Form QCS.

Type of Review: Extension without change.

Respondents: Class I railroads.

Number of Respondents: Seven.

Estimated Time per Response: One hour.¹

¹ The 60-day notice indicated that the estimated time per report was 0.25 hours, but staff has adjusted its estimate to one hour. Therefore, the total burden hours are adjusted from 8.75 hours annually to 35 hours in this notice.

Frequency of Response: Quarterly, with an annual summation.

Total Annual Hour Burden: 35 hours annually.

Total Annual “Non-Hour Burden” Cost: None identified. Filings are submitted electronically to the Board.

Needs and Uses: This collection, which is based on information contained in carload waybills used by railroads in the ordinary course of business, reports car loadings and total revenues by commodity code for each commodity that moved on the railroad during the reporting period. See 49 CFR pt. 1248. Information in this report is entered into the Board's URCS, the uses of which are explained under Collection Number 5. This collection is compiled and published on the Board's website, https://www.stb.gov/stb/industry/econ_reports.html. There is no other source for the information contained in this report.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information.

Dated: September 25, 2018.
Jeff Herzig,
Clearance Clerk.

[FR Doc. 2018-21138 Filed 9-27-18; 8:45 am]

BILLING CODE 4915-01-P